SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: August 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. BKV Operating, LLC; Pad ID: Frystak Central Pad; ABR-201108012.R2; Bridgewater Township, Susquehanna County, Pa.; Consumptive Use of Up to 5.0000 mgd; Approval Date: August 15, 2023.

2. Coterra Energy Inc.; Pad ID: BiniewiczS P1; ABR-201308001.R2; Gibson Township, Susquehanna County, Pa.; Consumptive Use of Up to 5.0000 mgd; Approval Date: August 15, 2023.

3. EQT ARO LLC; Pad ID: Ann C Good Pad A; ABR-201208009.R2; Cogan House Township, Lycoming County, Pa.; Consumptive Use of Up to 4.0000 mgd; Approval Date: August 15, 2023.

4. EQT ARO LLC; Pad ID: Salt Run HC Pad A; ABR-201208007.R2; Cascade Township, Lycoming County, Pa.; Consumptive Use of Up to 4.0000 mgd; Approval Date: August 15, 2023.

5. Pennsylvania General Energy Company, L.L.C.; Pad ID: COP Tract 322 Pad E; ABR-201308002.R2; Cummings Township, Lycoming County, Pa.; Consumptive Use of Up to 4.0000 mgd; Approval Date: August 15, 2023.

6. Pennsylvania General Energy Company, L.L.C.; Pad ID: SGL75 PAD B; ABR-201308004.R2; McHenry Township, Lycoming County, Pa.; Consumptive Use of Up to 4.0000 mgd; Approval Date: August 15, 2023.

7. Repsol Oil & Gas USA, LLC; Pad ID: ACRES (05 229) M; ABR-201108010.R2; Windham Township, Bradford County, Pa.; Consumptive Use of Up to 6.0000 mgd; Approval Date: August 15, 2023.

8. Repsol Oil & Gas USA, LLC; Pad ID: STEPHANI (03 111); ABR-201108009.R2; Columbia Township, Bradford County, Pa.; Consumptive Use of Up to 6.0000 mgd; Approval Date: August 15, 2023.

9. Repsol Oil & Gas USA, LLC; Pad ID: VANBLARCOM (03 113) R; ABR-201108003.R2; Columbia Township, Bradford County, Pa.; Consumptive Use of Up to 6.0000 mgd; Approval Date: August 15, 2023.

10. Coterra Energy Inc.; Pad ID: BennettC P1; ABR-201308008.R2; Jessup Township, Susquehanna County, Pa.; Consumptive Use of Up to 5.0000 mgd; Approval Date: August 17, 2023.

11. Coterra Energy Inc.; Pad ID: BurkeG P1; ABR-201808001.R1; Auburn Township, Susquehanna County, Pa.; Consumptive Use of Up to 5.0000 mgd; Approval Date: August 17, 2023.

12. Coterra Energy Inc.; Pad ID: HauserJ P1; ABR-201808002.R1; Springville Township, Susquehanna County, Pa.; Consumptive Use of Up to 5.0000 mgd; Approval Date: August 17, 2023.

13. Coterra Energy Inc.; Pad ID: MarchoW&M P1; ABR-201308009.R2; Gibson Township, Susquehanna County, Pa.; Consumptive Use of Up to 5.0000 mgd; Approval Date: August 17, 2023.

14. EQT ARO LLC; Pad ID: Larry's Creek F&G Pad G; ABR-201308007.R2; Mifflin Township, Lycoming County, Pa.; Consumptive Use of Up to 4.0000 mgd; Approval Date: August 17, 2023.

15. Range Resources—Appalachia, LLC; Pad ID: Dog Run HC Unit 4H-6H; ABR-201308011.R2; Cummings Township, Lycoming County, Pa.; Consumptive Use of Up to 4.0000 mgd; Approval Date: August 17, 2023.

16. Range Resources—Appalachia, LLC; Pad ID: Laurel Hill 9H-11H; ABR-201308010.R2; Cogan House Township, Lycoming County, Pa.; Consumptive Use of Up to 4.0000 mgd; Approval Date: August 17, 2023.

17. Coterra Energy Inc.; Pad ID: PayneD P1; ABR-201308014.R2; Harford Township, Susquehanna County, Pa.; Consumptive Use of Up to 5.0000 mgd; Approval Date: August 22, 2023.

18. Seneca Resources Company, LLC; Pad ID: DCNR 100 Pad G; ABR-201108032.R2; McIntyre Township, Lycoming County, Pa.; Consumptive Use of Up to 4.0000 mgd; Approval Date: August 22, 2023.

19. Seneca Resources Company, LLC; Pad ID: DCNR 595 Pad L; ABR-201108033.R2; Bloss Township, Tioga County, Pa.; Consumptive Use of Up to 4.0000 mgd; Approval Date: August 22, 2023.

20. Chesapeake Appalachia, L.L.C.; Pad ID: BKT; ABR-201208012.R2; Wilmot Township, Bradford County, Pa.; Consumptive Use of Up to 7.5000 mgd; Approval Date: August 27, 2023.

21. Chesapeake Appalachia, L.L.C.; Pad ID: Harlan; ABR-201208005.R2; Overton Township, Bradford County, Pa.; Consumptive Use of Up to 7.5000 mgd; Approval Date: August 27, 2023.

22. Chesapeake Appalachia, L.L.C.; Pad ID: Stethers; ABR-201208004.R2; Wyalusing Township, Bradford County, Pa.; Consumptive Use of Up to 7.5000 mgd; Approval Date: August 27, 2023.

23. Seneca Resources Company, LLC; Pad ID: Chaapel Hollow Unit; ABR-201305016.R2; Gamble Township, Lycoming County, Pa.; Consumptive Use of Up to 4.0000 mgd; Approval Date: August 27, 2023.

24. Chesapeake Appalachia, L.L.C.; Pad ID: Nina; ABR-201208003.R2; Asylum Township, Bradford County, Pa.; Consumptive Use of Up to 7.5000 mgd; Approval Date: August 28, 2023.

25. Chesapeake Appalachia, L.L.C.; Pad ID: Ronmary; ABR-201208013.R2; Elkland Township, Sullivan County, Pa.; Consumptive Use of Up to 7.5000 mgd; Approval Date: August 28, 2023.

26. Coterra Energy Inc.; Pad ID: KeevesJ P1; ABR-201308003.R2; Brooklyn Township, Susquehanna County, Pa.; Consumptive Use of Up to 5.0000 mgd; Approval Date: August 28, 2023.

27. Coterra Energy Inc.; Pad ID: MeadB P1; ABR-201308013.R2; Bridgewater Township, Susquehanna County, Pa.; Consumptive Use of Up to 5.0000 mgd; Approval Date: August 28, 2023.

28. Chesapeake Appalachia, L.L.C.; Pad ID: Borek; ABR-201208021.R2; Auburn Township, Susquehanna County, Pa.; Consumptive Use of Up to 7.5000 mgd; Approval Date: August 29, 2023.

29. Chesapeake Appalachia, L.L.C.; Pad ID: Tufano; ABR-201208020.R2; Overton Township, Bradford County, Pa.; Consumptive Use of Up to 7.5000 mgd; Approval Date: August 29, 2023.

30. Repsol Oil & Gas USA, LLC; Pad ID: DCNR 594 (02-207); ABR-201808003.R1; Bloss, Hamilton, and Liberty Townships, Tioga County, Pa.; Consumptive Use of Up to 6.0000 mgd; Approval Date: August 29, 2023.

31. Coterra Energy Inc.; Pad ID: CorbinJ P1; ABR-201108049.R2; Brooklyn Township, Susquehanna County, Pa.; Consumptive Use of Up to 5.0000 mgd; Approval Date: August 31, 2023.

32. Repsol Oil & Gas USA, LLC; Pad ID: FREDERICK (02 109) L; ABR-201108046.R2; Hamilton Township, Tioga County, Pa.; Consumptive Use of Up to 6.0000 mgd; Approval Date: August 31, 2023.

33. SWN Production Company, LLC; Pad ID: Dropp-Range-Pad46; ABR-201308016.R2; Jackson Township, Susquehanna County, Pa.; Consumptive Use of Up to 4.9990 mgd; Approval Date: August 31, 2023.

34. Chesapeake Appalachia, L.L.C.; Pad ID: Yonkin Drilling Pad #1; ABR-201109020.R2.1; Cherry Township, Sullivan County, Pa.; Consumptive Use of Up to 7.5000 mgd; Approval Date: August 31, 2023.

Authority: Public Law 91-575, 84 Stat. 1509 et seq., 18 CFR parts 806 and 808.

Dated: September 12, 2023.
Jason E. Oyler,
General Counsel and Secretary to the Commission.

[FR Doc. 2023-20010 Filed 9-14-23; 8:45 am]

BILLING CODE 7040-01-P